DEPARTMENT OF HOUSING AND URBAN DEVELOPMENT

[Docket No. FR-5541-D-02]

Order of Succession for the Office of Healthy Homes and Lead Hazard Control

AGENCY: Office of Healthy Homes and Lead Hazard Control, HUD.

ACTION: Notice of Order of Succession.

SUMMARY: In this notice, the Director of the Office of Healthy Homes and Lead Hazard Control for the Department of Housing and Urban Development designates the Order of Succession for the Office of Healthy Homes and Lead Hazard Control. This Order of Succession supersedes any previous Order of Succession published for the Office of Healthy Homes and Lead Hazard Control.

DATES: Effective Date: July 15, 2011.

FOR FURTHER INFORMATION CONTACT: Matthew Ammon, Deputy Director, Office of Healthy Homes and Lead Hazard Control, Department of Housing and Urban Development, 451 7th Street, SW., Room 8236, Washington, DC 20410, telephone number 202-402-4337 (this is not a toll-free number). Persons with hearing- or speech-impairments may access this number through TTY by calling the toll-free Federal Relay Service at 1-800-877-8339.

SUPPLEMENTARY INFORMATION: The Director of the Office of Healthy Homes and Lead Hazard Control for the Department of Housing and Urban Development is issuing this Order of Succession of officials authorized to perform the functions and duties of the Office of Healthy Homes and Lead Hazard Control when, by reason of absence, disability, or vacancy in office, the Director is not available to exercise the powers or perform the duties of the office. This Order of Succession is subject to the provisions of the Federal Vacancies Reform Act of 1998 (5 U.S.C. 3345-3349d). This publication supersedes any previous Order of Succession published by the Office of Healthy Homes and Lead Hazard Control.

Accordingly, the Director designates the following Order of Succession.

Section A. Order of Succession

Subject to the provisions of the Federal Vacancies Reform Act of 1998, during any period when, by reason of absence, disability, or vacancy in office, the Director of the Office of Healthy Homes and Lead Hazard Control for the Department of Housing and Urban Development is not available to exercise the powers or perform the duties of the Director, the following officials within the Office of Healthy Homes and Lead Hazard Control are hereby designated to exercise the powers and perform the duties of the Office:

(1) Deputy Director;

(2) Director, Programs Division;

(3) Director, Grants Services Division;

(4) Director, Policy and Standards Division;

(5) Director, Regional Management and Technical Services Division; and

(6) Director, Lead Programs Enforcement Division.

These officials shall perform the functions and duties of the office in the order specified herein, and no official shall serve unless all the other officials, whose position titles precede his/hers in this order, are unable to act by reason of absence, disability, or vacancy in office.

Section B. Authority Superseded

This Order of Succession supersedes any previous Order of Succession published for the Office of Healthy Homes and Lead Hazard Control.

Authority: Section 7(d), Department of Housing and Urban Development Act, 42 U.S.C. 3535(d).

Dated: July 15, 2011.
Jon L. Gant,
Director.

[FR Doc. 2011-19277 Filed 7-28-11; 8:45 am]

BILLING CODE 4210-67-P